DEPARTMENT OF THE TREASURY

Internal Revenue Service

Open Meeting of Citizen Advocacy Panel, Midwest District

AGENCY: Internal Revenue Service (IRS), Treasury.

ACTION: Notice.

SUMMARY: A meeting of the Midwest Citizen Advocacy Panel will be held in Milwaukee, Wisconsin.

DATES: The meeting will be held Thursday, August 23, 2001, and Friday, August 24, 2001.

FOR FURTHER INFORMATION CONTACT: Sandra McQuin at 1-888-912-1227 (in Wisconsin, Iowa, Nebraska and Illinois), or 414-297-1604.

SUPPLEMENTARY INFORMATION: Notice is hereby given pursuant to Section 10(a)(2) of the Federal Advisory Committee Act, 5 U.S.C. App. (1988) that an open meeting of the Citizen Advocacy Panel (CAP) will be held Thursday, August 23, 2001, from 9 a.m. to 4 p.m. and Friday, August 24, 2001, from 8 a.m. to Noon at the University of Wisconsin, Milwaukee Center for Continuing Education, 161 West Wisconsin Avenue, Milwaukee, WI. The Citizen Advocacy Panel is soliciting public comment, ideas, and suggestions on improving customer service at the Internal Revenue Service. Public comments will be welcome during the meeting, or you can submit written comments to the panel by faxing to (414) 297-1623, or by mail to Citizen Advocacy Panel, Mail Stop 1006 MIL, 310 West Wisconsin Avenue, Milwaukee, WI 53203-2221.

The Agenda will include the following: Reports by the CAP sub-groups, presentation of taxpayer issues by individual members, discussion of issues, and an update on recruitment for new panel members.

Note: Last minute changes to the agenda are possible and could prevent effective advance notice.

August 9, 2001.
Cynthia Vanderpool,
Acting CAP, Communication and Liaison.

[FR Doc. 01-20841 Filed 8-16-01; 8:45 am]

BILLING CODE 4830-01-P